DEPARTMENT OF THE INTERIOR

Bureau of Land Management

[LLNMF00000 L13110000.XH0000]

Notice of Public Meeting, Farmington District Resource Advisory Council Meeting, New Mexico

AGENCY: Bureau of Land Management, Interior.

ACTION: Notice of Public Meeting.

SUMMARY: In accordance with the Federal Land Policy and Management Act and the Federal Advisory Committee Act of 1972, the U.S. Department of the Interior, Bureau of Land Management (BLM), Farmington District Resource Advisory Council (RAC), will meet as indicated below.

DATES: The meeting dates are February 20-21, 2013, at the BLM Farmington District Office, 6251 College Blvd., Farmington, New Mexico 87402, from 8:30 a.m. to 4:30 p.m. on both days. The public may send written comments to the RAC at the above address.

FOR FURTHER INFORMATION CONTACT: Bill Papich, BLM Farmington District Office, 6251 College Blvd., Farmington, NM 87402, telephone 505-564-7620. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of the Interior, through the BLM, on a variety of planning and management issues associated with public land management in New Mexico. Planned meeting agenda items include discussion of a proposed amendment to the Farmington Field Office Resource Management Plan that would revise how the Farmington Field Office manages the BLM Glade Run Recreation Area. The RAC also will receive an update on a delayed wild horse gather within the BLM Farmington Field Office administrative area and discuss how the Field Office could begin planning to maximize the number of horses adopted locally by the public after the gather.

Other items on the meeting agenda include discussion of BLM Taos Field Office transportation planning. Taos and Farmington field office staff also are scheduled to discuss BLM management of the Old Spanish National Historic Trail. There also will be a presentation by BLM firefighters on the outlook for the 2013 fire season.

At 1:30 p.m. on Thursday, February 21, there will be a one-hour public comment period. In addition to comments made by members of the public attending the meeting, public comments also can be made by telephone through a conference call hook-up at the meeting that will project comments made over the telephone through a speakerphone so that all those in the meeting room may listen. To make a reservation to comment by telephone, contact Bill Papich at the BLM Farmington District Office and he will provide you with a phone number to call just prior to the public comment period. Mr. Papich can be contacted at 505-564-7620, or by email at bpapich@blm.gov. The BLM is limited to 15 callers hooking up to the BLM conference call system during the public comment period. Mr. Papich will accept reservations to comment by phone on a first come, first serve basis.

All RAC meetings are open to the public. Depending on the number individuals wishing to comment and the time available for comments, the time for individual comments may be limited.

Dave Evans,
District Manager.

[FR Doc. 2013-00977 Filed 1-17-13; 8:45 am]

BILLING CODE 4310-VB-P